DEPARTMENT OF HOMELAND SECURITY

Transportation Security Administration

Intent To Request Renewal From OMB of One Current Public Collection of Information: Airport Security

AGENCY: Transportation Security Administration, DHS.

ACTION: 60-day notice.

SUMMARY: The Transportation Security Administration (TSA) invites public comment on one currently approved Information Collection Request (ICR), Office of Management and Budget (OMB) control number 1652-0002, abstracted below that we will submit to OMB for renewal in compliance with the Paperwork Reduction Act (PRA). The ICR describes the nature of the information collection and its expected burden. TSA-required airport security programs require airport operators to maintain and update records to ensure compliance with security provisions outlined in 49 CFR part 1542.

DATES: Send your comments by November 2, 2015.

ADDRESSES: Comments may be emailed to TSAPRA@dhs.gov or delivered to the TSA PRA Officer, Office of Information Technology (OIT), TSA-11, Transportation Security Administration, 601 South 12th Street, Arlington, VA 20598-6011.

FOR FURTHER INFORMATION CONTACT: Christina A. Walsh at the above address, or by telephone (571) 227-2062.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

OMB Control Number 1652-0002; Airport Security, 49 CFR part 1542. TSA is seeking to renew its OMB control number 1652-0002, Airport Security, 49 CFR part 1542. The information collection is used to determine compliance with 49 CFR part 1542 and to ensure passenger safety and security by monitoring airport operator security procedures. The following information collections and other recordkeeping requirements with which respondent airport operators must comply fall under this OMB control number: (1) Development of an Airport Security Program (ASP) and submission to TSA; (2) submission of ASP amendments to TSA when applicable; (3) collection of data necessary to complete a criminal history records check (CHRC) for those individuals with access to a Security Identification Display Area (SIDA); (4) submission to TSA of identifying information about individuals to whom the airport operator has issued identification media, such as name, address, and country of birth, in order for TSA to conduct a Security Threat Assessment (STA); and (5) recordkeeping requirements associated with records required for compliance with the regulation, and for compliance with Security Directives (SDs).

This information collection is mandatory for airport operators. As part of their security programs, affected airport operators are required to maintain and update, as necessary, records of compliance with the security program provisions set forth in 49 CFR part 1542. This regulation also requires affected airport operators to make their security programs and associated records available for inspection and copying by TSA to verify compliance with transportation security regulations.

As required by 49 CFR part 1542, airport operators must ensure that individuals seeking unescorted access authority submit information for and receive a CHRC, as well as submit information so that TSA can conduct an STA. As part of this process, the individual must provide identifying information, including fingerprints. Additionally, airport operators must maintain these records and make them available to TSA for inspection and copying upon request.

TSA will continue to collect information to determine airport operator compliance with other requirements of 49 CFR part 1542. TSA estimates that there will be approximately 438 airport operator respondents to the information collection requirements described above, with a total annual burden estimate of approximately 1,607,260 hours.

Issued in Arlington, Virginia, on August 24, 2015.
Christina A. Walsh,
TSA Paperwork Reduction Act Officer, Office of Information Technology.

[FR Doc. 2015-21694 Filed 8-31-15; 8:45 am]

BILLING CODE 9110-05-P